NATIONAL AERONAUTICS AND SPACE ADMINISTRATION

[(19-038)]

Notice of Information Collection; Name of Information Collection: NASA Internship Data Collection Screens: NASA Internship Management System Student-Level Data

AGENCY: National Aeronautics and Space Administration (NASA).

ACTION: Notice of information collection—existing information collection in use without OMB approval.

SUMMARY: The National Aeronautics and Space Administration, as part of its continuing effort to reduce paperwork and respondent burden, invites the general public and other Federal agencies to take this opportunity to comment on proposed and/or continuing information collections.

DATES: All comments should be submitted within 60 calendar days from the date of this publication.

ADDRESSES: All comments should be addressed to Gatrie Johnson, National Aeronautics and Space Administration, 300 E Street SW, Washington, DC 20546-0001.

FOR FURTHER INFORMATION CONTACT: Requests for additional information or copies of the information collection instrument(s) and instructions should be directed to Gatrie Johnson, NASA Clearance Officer, NASA Headquarters, 300 E Street SW, JF0000, Washington, DC 20546 or email Gatrie.Johnson@NASA.gov.

SUPPLEMENTARY INFORMATION:

Abstract

The NASA Internship Management System is a comprehensive tool designed to allow student applicants to apply to NASA internship opportunities in a single location. NASA personnel manage the intern selection process and implementation of internship sessions in a single system. Information from the NASA Internship Management System Student-Level Data collection will be used in accordance with the criteria established by NASA for monitoring research and STEM Engagement projects. This information collection is also necessary to provide NASA STEM Engagement projects with information on participants necessary to determine participant eligibility, selection for activity participation, identify accommodations participants may have, and provide other information necessary for effective activity implementation.

II. Methods of Collection

Online/Web-based.

III. Data

Title: NASA Internship Data Collection Screens: NASA Internship Management System Student-Level Data.

OMB Number: 2700-xxxx.

Type of review: Existing Information Collection in use without OMB approval.

Affected Public: Eligible high school and college students, and/or in-service educators may voluntarily apply for an internship experience at a NASA facility.

Average Expected Annual Number of Activities: On average, 3 internship sessions/activities are offered annually (i.e., Spring, Summer and Fall).

Average Number of Respondents per Activity: On average, there are 4,666 respondents per internship session/activity.

Annual Responses: Approximately 14,000 completed internship applications are submitted annually.

Frequency of Responses: 1.

Average Minutes per Response: It takes 60 minutes per response on average.

Burden Hours: 14,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gatrie Johnson,
NASA PRA Clearance Officer.

[FR Doc. 2019-13909 Filed 6-28-19; 8:45 am]

BILLING CODE 7510-13-P